DEPARTMENT OF ENERGY

Federal Energy Regulatory Commission

[Docket No. ER02-2560-000]

Louisville Gas and Electric Company and Kentucky Utilities Company; Notice of Filing

September 23, 2002.

Take notice that on September 18, 2002, Louisville Gas and Electric Company (LG&E) and Kentucky Utilities Company (KU) (collectively, LG&E/KU) and as amended on September 19, 2002, hereby tender for filing with the Commission amendments to two agreements between LG&E/KU and East Kentucky Power Cooperative (EKPC). The two agreements are: (a) the Transmission Agreement between Kentucky Utilities Company and East Kentucky Power Cooperative, Inc. entered into on February 9, 1995, as supplemented, and (b) the Interconnection Agreement Between Kentucky Utilities Company and East Kentucky Power Cooperative, Inc. dated May 11, 1995 but effective on October 22, 1994, as supplemented (collectively, the Agreements).

The purpose of this filing is to recognize LG&E/KU's status as a transmission owner and member of the MISO and to adjust the relevant rates, terms and conditions of transmission service provided to EKPC under the Agreements such that they are equal to the corresponding rates, terms and conditions of service that EKPC would pay if it were a direct transmission customer of the MISO (i.e., the rates, terms and conditions of service in effect from time to time under the MISO's Open Access Transmission Tariff (OATT)). Each agreement is a grandfathered agreement listed on Attachment P of the MISO OATT and pursuant to the terms of each grandfathered agreement, LG&E/KU have the unilateral right to file to change the rates, terms and conditions of service applicable to EKPC.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings. Comment Date: October 10, 2002.

Linwood A. Watson, Jr.,
Deputy Secretary.

[FR Doc. 02-25141 Filed 10-2-02; 8:45 am]

BILLING CODE 6717-01-P